DEPARTMENT OF HEALTH AND HUMAN SERVICES

Indian Health Service

Request for Public Comment: 60-Day Proposed Collection: Common Reporting Requirements for Urban Indian Health Program; Republication

Editorial Note: In the issue of January 14, 2000, beginning on page 2417, FR Doc. 00-888 was printed as a duplicate of FR Doc. 00-887, beginning on page 2416. The correct FR Doc. 00-888 is published below.

SUMMARY: In compliance with Section 3506(c)(2)(A) of the Paperwork Reduction Act of 1995, to provide a 60-day advance opportunity for public comment on proposed information collection projects, the Indian Health Service (IHS) is publishing for comment a summary of a proposed information collection to be submitted to the Office of Management and Budget (OMB) for review.

Proposed Collection

Title: 09-17-0007, “Common Reporting Requirements for Urban Indian Health Program.” Type of Information Collection Request: Extension of currently approved information collection, 09-17-0007, “Common Reporting Requirements for Urban Indian Health Program,” which expires February 28, 2000. Form Number: Reporting formats contained in the Indian Health Service Urban Indian Health Programs Common Reporting Requirements Instruction Manual. Need and Use of Information Collection: American Indian/Alaska Native (AI/AN) urban health organization contracting with the IHS provide the information collected. The information is collected annual and is used to monitor contractor performance, prepare budget reports, allocate resources, and evaluate the urban health contract program.

Affected Public: Businesses or other for-profit organizations, individuals, not-for-profit institutions, and State, local, or Tribal Government. Type of Respondents: health care providers.

Table 1 below provides: Types of data collection instruments, Estimate number of respondents, Number of responses per respondent, Annual Number of Responses, Average burden hour per response, and total annual burden hour.

Data collection instructions | Estimated number or respondents | Responses per respondent | Annual number of responses | Average burden hr per response ¹ | Total annual burden hours
Face Sheet | 34 | 1 | 34 | 0.50 (30 mins) | 17.0
Table 1 | 34 | 1 | 34 | 2.00 (120 mins) | 68.0
Table 2 | 34 | 1 | 34 | 0.75 (45 mins) | 26.0
Table 3 | 34 | 1 | 34 | 22.25 (135 mins) | 77.0
Table 4 | ² 23 | 1 | 23 | 0.50 (30 mins) | 12.0
Table 5 | 34 | 1 | 34 | 2.00 (120 mins) | 68.0
Table 6 | 34 | 1 | 34 | 2.00 (120 mins) | 68.0
Table 7 | 34 | 1 | 34 | 1.00 (60 mins) | 34.0
Tabke 8 | 34 | 1 | 34 | 1.25 (75 mins) | 43.0
Total | 295 |  | 295 |  | 413.0
¹ For ease of understanding, burden hours are also provided in actual minutes.
² Excludes urban Indian health projects with no medical component.

There are no Capital Costs, Operating Costs, and/or Maintenance Costs to report.

Request for Comments

Your written comments and/or suggestions are invited on one or more of the following points: (a) Whether the information collection activity is necessary to carry out an agency function; (b) whether the agency processes the information collected in a useful and timely fashion; (c) the accuracy of public burden estimate (the estimated amount of time needed for individual respondents to provide the requested information); (d) whether the methodology and assumption used to determine the estimate are logical; (e) ways to enhance the quality, utility, and clarity of the information being collected; and (f) ways to minimize the public burden through the use of automated, electronic, mechanical, or other technological collection techniques or other forms of information technology.

Send Comments and Request For Further Information: Send your written comments, requests for more information of the proposed collection, or requests to obtain a copy of the data collection instrument(s) and instructions to: Mr. Lance Hodahkwens, Sr., M.P.H. IHS Reports Clearance Officer, 12300 Twinbrook Parkway, Suite 450, Rockville, MD 20852.1601: call non-toll free (301) 443-5938, send via facsimile to (301) 443-2316, or send your E-mail requests, comments, and return address to: 1hodahkw@hqe.ihs.gov.

Comment Due Date: Your comments regarding this information collection are best assured of having their full effect if received on or before March 14, 2000.

Dated: January 7, 2000.
Michael H. Trujillo,
Assistant Surgeon General Director.

[FR Doc. 00-888 Filed 1-13-00; 8:45 am]

BILLING CODE 4160-16-M

Editorial Note: In the issue of January 14, 2000, beginning on page 2417, FR Doc. 00-888 was printed as a duplicate of FR Doc. 00-887 beginning on page 2416. FR Doc. 00-888 is being republished in this issue of January 24, 2000.

[FR Doc. 00-888 Filed 1-21-00; 8:45 am]

BILLING CODE 1505-01-M